INTERNATIONAL TRADE COMMISSION

[Investigation Nos. 701-TA-649 and 731-TA-1523 (Preliminary)]

Twist Ties From China

Determinations

On the basis of the record ¹ developed in the subject investigations, the United States International Trade Commission (“Commission”) determines, pursuant to the Tariff Act of 1930 (“the Act”), that there is a reasonable indication that an industry in the United States is materially injured by reason of imports of twist ties from China, provided for in statistical reporting numbers 8309.90.0000 and 5609.00.3000 of the Harmonized Tariff Schedule of the United States that are alleged to be sold in the United States at less than fair value (“LTFV”) and to be subsidized by the government of China.²

¹ The record is defined in § 207.2(f) of the Commission's Rules of Practice and Procedure (19 CFR 207.2(f)).

² Subject merchandise may also enter under HTSUS statistical reporting numbers 3920.51.5000, 3923.90.0080, 3926.90.9990, 4811.59.6000, 4821.10.2000, 4821.10.4000, 4821.90.2000, 4821.90.4000, and 4823.90.8600. Twist Ties From the People's Republic of China: Initiation of Less-Than-Fair Value Investigation 85 FR 45161, (July 27, 2020); and Twist Ties From the People's Republic of China: Initiation of Countervailing Duty Investigation 85 FR 45188, (July 27, 2020).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On June 26, 2020, Bedford Industries Inc., Worthington, Minnesota filed petitions with the Commission and Commerce, alleging that an industry in the United States is materially injured or threatened with material injury by reason of subsidized imports of twist ties from China and LTFV imports of twist ties from China. Accordingly, effective June 26, the Commission instituted countervailing duty investigation No. 701-TA-649 and antidumping duty investigation No. 731-TA-1523 (Preliminary).

Notice of the institution of the Commission's investigations and of a public conference through written submissions to be held in connection therewith was given by posting copies of the notice in the Office of the Secretary, U.S. International Trade Commission, Washington, DC, and by publishing the notice in the Federal Register of July 2, 2020 (85 FR 39933). In light of the restrictions on access to the Commission building due to the COVID-19 pandemic, the Commission conducted its conference through written questions, submissions of opening remarks and written testimony, written responses to questions, and postconference briefs. All persons who requested the opportunity were permitted to participate.

The Commission made these determinations pursuant to §§ 703(a) and 733(a) of the Act (19 U.S.C. 1671b(a) and 1673b(a)). It completed and filed its determinations in these investigations on August 10, 2020. The views of the Commission are contained in USITC Publication 5104 (August 2020), entitled Twist Ties from China: Investigation Nos. 701-TA-649 and 731-TA-1523 (Preliminary).

By order of the Commission.
Issued: August 10, 2020.
Lisa Barton,
Secretary to the Commission.

[FR Doc. 2020-17749 Filed 8-13-20; 8:45 am]

BILLING CODE 7020-02-P